DEPARTMENT OF COMMERCE

National Oceanic and Atmospheric Administration

50 CFR Part 679

[Docket No. 021212307 3037-02; I.D. 042903A]

Fisheries of the Exclusive Economic Zone Off Alaska; Yellowfin Sole by Vessels Using Trawl Gear in the Bering Sea and Aleutian Islands Management Area

AGENCY: National Marine Fisheries Service (NMFS), National Oceanic and Atmospheric Administration (NOAA), Commerce.

ACTION: Modification of a closure.

SUMMARY: NMFS is reopening directed fishing for yellowfin sole by vessels using trawl gear in the Bering Sea and Aleutian Islands management area (BSAI). This action is necessary to utilize the amount of the second seasonal apportionment of the halibut bycatch allowance specified for the trawl yellowfin sole fishery category.

DATES: Effective 1200 hrs, Alaska local time (A.l.t.), May 12, 2003, through 1200 hrs, A.l.t., May 21, 2003.

FOR FURTHER INFORMATION CONTACT: Mary Furuness, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and CFR part 679.

The amount of the second seasonal apportionment of the halibut bycatch allowance specified for the trawl yellowfin sole fishery category in the BSAI was established as 195 metric tons by the final 2003 harvest specifications for groundfish in the BSAI (68 FR 9907, March 3, 2003). In accordance with § 679.21(e)(7)(v), the directed fishery for yellowfin sole by vessels using trawl gear was closed effective 1200 hrs, A.l.t., April 17, 2003 (68 FR 19465, April 21, 2003) because it was expected that the second seasonal apportionment of the trawl halibut bycatch allowance specified for the yellowfin sole fishery category would be caught.

NMFS has determined that as of April 19, 2003, the remaining amount of the second seasonal apportionment of the halibut bycatch allowance specified for the trawl yellowfin sole fishery category is 73 metric tons. Therefore, NMFS is terminating the previous closure and is re-opening directed fishing for yellowfin sole by vessels using trawl gear in the BSAI effective 1200 hrs, A.l.t., May 12, 2003.

Classification

All other closures remain in full force and effect. This action responds to the best available information recently obtained from the fishery. The Assistant Administrator for Fisheries, NOAA (AA), finds good cause to waive the requirement to provide prior notice and opportunity for public comment pursuant to the authority set forth at 5 U.S.C. 553(b)(B) as such requirement is contrary to the public interest. This requirement is contrary to the public interest as it would delay the opening of the fishery, not allow for the full utilization of the second seasonal apportionment of the halibut bycatch allowance specified for the trawl yellowfin sole fishery category, and therefore reduce the public's ability to use and enjoy the fishery resource.

The AA also finds good cause to waive the 30-day delay in the effective date of this action under 5 U.S.C. 553(d)(3). This finding is based upon the reasons provided above for waiver of prior notice and opportunity for public comment.

This action is required by § 679.21 and is exempt from review under Executive Order 12866.

Authority: 16 U.S.C. 1801 et seq.

Dated: May 2, 2003.
Bruce C, Morehead,
Acting Director, Office of Sustainable Fisheries, National Marine Fisheries Service.

[FR Doc. 03-11482 Filed 5-7-03; 8:45 am]

BILLING CODE 3510-22-S